ENVIRONMENTAL PROTECTION AGENCY

40 CFR Parts 51 and 52

RIN 2060-AS20

[EPA-HQ-OAR-2015-0045; FRL-9922-54-OAR]

Revisions to the Clean Air Act Section 110 Submission Requirements for State Implementation Plans and Notice of Availability of an Option for Electronic Reporting

AGENCY: Environmental Protection Agency.

ACTION: Final rule.

SUMMARY: In this final rule and notice of availability, the Environmental Protection Agency (EPA) is revising the requirements for how state and tribal implementation plans (hereinafter, collectively referred to as SIPs) under the Clean Air Act (CAA) are required to be submitted to the EPA. Specifically, we are providing state, local and tribal air agencies (hereinafter, collectively referred to as states or air agencies) an option to submit SIPs, including any necessary supporting documents, using our new electronic SIP (eSIP) submission system, which is web-based. We are providing notification that electronic submission via the eSIP submission system is now our preferred method for air agencies to make SIP submissions, and that if a SIP submission is made through the eSIP submission system, all documents transmitted through the system will be considered part of the official SIP submission from the air agency. We are also simplifying submission requirements for those air agencies that still wish to make paper submissions by reducing the number of paper copies required, and providing non-binding guidelines for SIP submissions that will aid in SIP processing.

DATES: The effective date of this action is March 16, 2015, when the eSIP submission system will be available to air agencies.

FOR FURTHER INFORMATION CONTACT: Ms. Mia South, Office of Air Quality Planning and Standards, Air Quality Policy Division, Mail Code C504-2, 109 TW Alexander Drive, Research Triangle Park, NC 27709; (919) 541-5550; south.mia@epa.gov.

SUPPLEMENTARY INFORMATION:

I. General Information

A. Does this action apply to me?

This action affects state, local and tribal air agencies that submit SIP revisions to meet the requirements of section 110 of the CAA and the EPA rules contained in 40 CFR part 51, Requirements for Preparation, Adoption, and Submisson of Implementation Plans. If you have questions regarding applicability of this action to a SIP submission, please use the contact information under FOR FURTHER INFORMATION CONTACT.

B. How can I get copies of this document and other related information?

The EPA has established a docket for this action under Docket ID No. EPA-HQ-OAR-2015-0045. Publicly available docket materials are available either electronically through www.regulations.gov or in hard copy at the EPA Docket Center, EPA/DC, William Jefferson Clinton West Building, Room 3334, 1301 Constitution Avenue NW., Washington, DC. The Public Reading Room is open from 8:30 a.m. to 4:30 p.m., Monday through Friday, excluding legal holidays. The telephone number for the Public Reading Room is (202) 566-1744 and the telephone number for the Office of Air and Radiation Docket and Information Center is (202) 566-1742.

C. Where do I go if I have a state-specific question?

For questions related to specific states, please contact the appropriate EPA Regional Office SIP Contacts:

Region | States | Contact | Contact info | Address
1 | Connecticut, Maine, Massachusetts, New Hampshire, Rhode Island, Vermont | Donald Cooke | 617-918-1668 | EPA, Office of Ecosystem Protection, 5 Post Office Square—Suite 100, (Mail Code OEP05-2), Boston, MA 02109-3912.
2 | New Jersey, New York, Puerto Rico, Virgin Islands | Kirk Wieber | 212-637-3381 | EPA, Air Programs Branch, 290 Broadway, New York, NY 10007-1866.
3 | Delaware, District of Columbia, Maryland, Pennsylvania, Virginia, West Virginia | Sharon McCauley | 215-814-3376 | EPA, Air Protection Division (3AP00), 1650 Arch Street, Philadelphia, PA 19103-2029.
4 | Alabama, Florida, Georgia, Kentucky, Mississippi, North Carolina, South Carolina, Tennessee | Nacosta Ward | 404-562-9140 | EPA, Air Planning Branch, 61 Forsyth Street, SW, Atlanta, GA 30303-3104.
5 | Illinois, Indiana, Michigan, Minnesota, Ohio, Wisconsin | Christos Panos | 312-353-8328 | EPA, Air and Radiation Division (AR-18J), 77 West Jackson Boulevard, Chicago, IL 60604-3507.
6 | Arkansas, Louisiana, New Mexico, Oklahoma, Texas | Bill Deese Carl Young | 214-665-7253 214-665-6645 | EPA, Multimedia Planning and Permitting Division, Air Planning Section (6PD-L), 1445 Ross Avenue, Suite 700, Dallas, TX 75202-2733.
7 | Iowa, Kansas, Missouri, Nebraska | Jan Simpson | 913-551-7089 | EPA, Air and Waste Management Division, Air Planning and Development Branch, 11201 Renner Blvd., Lenexa, KS 66219.
8 | Colorado, Montana, North Dakota, South Dakota, Utah, Wyoming | Air Quality Planning Unit Chief | 303-312-6936 | EPA, Air Program, Office of Partnership and Regulatory Assistance, 1595 Wynkoop Street, Denver, CO 80202-1129.
9 | Arizona, California, Hawaii, Nevada, American Samoa, Guam | Lisa Tharp Andy Steckel | 415-947-4142 415-947-4115 | EPA, Air Division, Rules Office, (AIR-4), 75 Hawthorne Street, San Francisco, CA 94105.
10 | Alaska, Idaho, Oregon, Washington | Claudia Vaupel | 206-553-6121 | EPA, Office of Air Waste and Toxics (AWT-150), 1200 Sixth Avenue, Suite 900, Seattle, WA 98101-3140

II. Final Action

A. How is the EPA changing its rules regarding submission of SIPs and why?

Under the CAA, air agencies are responsible for developing and submitting for approval SIPs that provide for attainment, maintenance and enforcement of the national ambient air quality standards (NAAQS) and protection of visibility in certain national parks and other Class I areas. Such SIP submissions may comprise ten or fewer pages, but frequently may be comprised of multiple documents containing tens or hundreds of pages. Under existing EPA regulations, air agencies are required to submit paper copies of their SIP submissions—in some cases up to five copies—and are only provided an option of providing electronic versions in addition to paper copies. See 40 CFR 51.103(a) (requiring five hard copies or an electronic copy with two hard copies) and Appendix V to Part 51 (requiring a signed and stamped copy and also providing for an electronic copy). Such requirements were considered reasonable when these requirements were promulgated, especially when there was no assurance that the courts' review of our actions on these submissions would acknowledge electronic copies as official records. However, as we explained in our general rules regarding electronic reporting, there have since been significant advances in technology, and electronic systems are now available with capability to provide sufficient evidence of the authenticity of electronic submissions, including for their use in the courts. See generally Cross-Media Electronic Reporting, Final Rule (70 FR 59848, October 13, 2005, at 59855 and 59872). In light of these advances, we believe it is unnecessary to continue to require paper submissions of SIPs now that an appropriate electronic submission system, the EPA's eSIP submission system, is available. Accordingly, we are revising our rules to allow for electronic reporting through the eSIP submission system.

We originally addressed reducing the burdens of SIP reporting in a guidance memo issued in 2011.¹ At that time, we acknowledged certain constraints on our ability to rely solely on electronic copies of SIP submissions, but we used some of the existing flexibility provided in 40 CFR 51.103 to reduce the number of paper copies that air agencies would be required to submit. We subsequently initiated a pilot project to develop and test a system for electronic web-based SIP submissions through a new eSIP submission system. The eSIP submission system pilot project involved personnel from various EPA offices and representatives from a number of air agencies, and it allowed us to gain important insight and ideas regarding the eSIP submission system. Having completed that pilot project, we believe it is now appropriate to expand the eSIP submission system to accommodate all states' SIP submissions and to revise our underlying regulations to allow for electronic submissions on a more widespread basis. Thus, we are making revisions to the relevant regulations to provide all state, local and tribal air agencies the option of using the eSIP submission system. While this electronic submission method will be our preferred submission method for SIPs, some air agencies may choose to continue to provide paper submissions. Therefore, we are also revising our regulations to reduce the number of hard copies required to be submitted in an effort to reduce waste and burden on states.

¹ Memorandum from Janet McCabe, Deputy Assistant Administrator, Office of Air and Radiation, to Regional Administrators, Regions I-X, Regional Consistency for the Administrative Requirements of State Implementation Plan Submittals and Use of “Letter Notices,” dated April 6, 2011, page 4.

The development of the eSIP submission system also fulfills specific requests from our air agency partners. For example, the National Association of Clean Air Agencies and the Environmental Council of the States SIP Reform Workgroup is a cooperative initiative of state representatives and the EPA focused on finding ways to improve the SIP development and submission process, beginning from the time the EPA promulgates a new or revised NAAQS through the time of formal submission to Regional Offices for completeness determinations and EPA actions on such submissions. One of the requests of the workgroup was that we develop an electronic SIP submission system and make any regulatory changes that might be needed to make it available for use as an official submission mechanism.

We recognize the important role of our air agency partners in meeting all applicable requirements for implementing the NAAQS and protecting visibility in Class I areas, and we wish to reduce the burdens on those air agencies in carrying out their responsibilities. To that end, the revisions in this final rule offer air agencies the option of submitting SIPs and supporting technical documentation electronically, instead of submitting them in multiple hard copies as currently required. In addition, while electronic SIP submission is our preferred method, we recognize that some air agencies may still wish to make paper SIP submissions, so this rule also reduces the number of paper copies that such agencies must provide. For paper submissions, we would prefer one paper copy that is submitted with an accompanying electronic copy that can be provided in a variety of formats (but preferably as a word searchable portable document format (PDF), but we also allow three paper copies without any electronic copy. Whether an air agency decides to make an electronic or paper SIP submission, this rule does not add any new requirements regarding the substance of any SIP. Therefore, this action does not impose any new burdens on air agencies, and instead provides for electronic submission and a reduced number of copies for paper submissions, both of which should reduce costs for the submitting entity.

This rulemaking is also helping the EPA meet our goals for improving regulations. For example, the final rule is consistent with E-Enterprise for the Environment, a joint initiative between states and the EPA to improve environmental outcomes and dramatically enhance service to the regulated community and the public by maximizing the use of advanced monitoring and information technologies, optimizing operations and increasing transparency. This rule is also consistent with our overall approach to improving regulations, as described in our Final Plan for Periodic Retrospective Reviews of Existing Regulations (August 2011).² That plan was developed in response to President Obama's charge in Executive Order 13563 for each federal agency to develop a “plan, consistent with law and its resources and regulatory priorities, under which the agency will periodically review its existing significant regulations to determine whether any such regulations should be modified, streamlined, expanded, or repealed so as to make the agency's regulatory program more effective or less burdensome in achieving the regulatory objectives.” ³ As one key element of our plan, we stated that the EPA intends to replace outdated paper reporting with electronic reporting. This final rule represents an important step in making the transition to electronic submission of SIPs.

² Improving Our Regulations: Final Plan for Periodic Retrospective Reviews of Existing Regulations. U.S. EPA. August 2011. Available at: http://www.epa.gov/regdarrt/retrospective/documents/eparetroreviewplan-aug2011.pdf.

³ Improving Regulation and Regulatory Review (Executive Order 13563). 76 FR 3821 (January 21, 2011).

In addition to revising our rules to allow for submission through the eSIP submission system and to reduce the number of paper copies required for submissions that are not made through the eSIP submission system, for the convenience of air agency personnel, we are amending 40 CFR 51.103 and 40 CFR part 51, Appendix V by incorporating other provisions and changes relating to other aspects of SIP submissions, drawn from our past experience with SIP submissions. Specifically, we have added 40 CFR 51.103(c) to generally advise air agencies to consult with the appropriate Regional Office for guidance regarding SIP submissions. We have revised 40 CFR 51, Appendix V in three ways. First, we have moved from Section 2.1(d) to Section 2.1(a) the existing requirement that air agencies must verify that any electronic copy provided with a paper submission is an exact duplicate of the paper copy. We have also added Section 3.0, which repeats many of the voluntary guidelines for SIP submissions previously provided in the 2011 guidance memo mentioned above. If SIP submissions are prepared according to these recommendations, we should be able to process those submissions more quickly.

Finally, consistent with the changes explained above, we have also included a minor amendment to 40 CFR 52.16 to clarify that any plan submission that is made pursuant to 40 CFR part 51 and that conforms to the requirements of Appendix V of that part will not also be required to conform with the requirements of section 52.16.

The changes in this final rule represent an agency general rule of organization, procedure or practice that specifically amends 40 CFR part 51, Requirements for Preparation, Adoption, and Submittal of Implementation Plans, to clarify and simplify the SIP submission process to improve the SIP process by reducing federal and air agency burden. As explained above, this final rule does not make substantive changes to the required content of the SIP submissions required by the remaining regulations in 40 CFR parts 51. Rather, it makes only minor amendments to the existing SIP submission rules that will enable states to submit and the EPA to process SIP revisions more efficiently.

B. What is the EPA's authority for taking action?

This final rule is issued under the EPA's general rulemaking authority provided under CAA section 301(a)(1) (42 U.S.C. 7601(a)(1)).

Section 553 of the Administrative Procedure Act (APA), 5 U.S.C. 553(b)(3)(A), provides that “rules of agency organization, procedure, or practice” are exempt from notice and comment requirements. As explained above, the action we are taking today involves revisions to the rules that we follow in determining when an air agency has made an official SIP submission under the CAA and does not affect the required content of those submissions as required by the remaining regulations in 40 CFR parts 51. Accordingly, these revisions fall under the exemption provided in APA section 553(b)(3)(A), and the EPA is not taking comment on this action.

III. The Cross-Media Electronic Reporting Regulation (CROMERR)—Notice of Availability of Electronic Reporting

As of March 16, 2015, air agencies may submit SIP revisions addressing CAA requirements through the eSIP submission system. The eSIP submission system, operated through the agency's Central Data Exchange (CDX), is CROMERR compliant, which provides verification that the electronic signature meets the EPA's regulatory electronic signature requirements.

How to Access the System: The eSIP submission system can be accessed at https://cdx.epa.gov. New users will need to register. The EPA intends to provide training to affected entities on how to access, register and use the system. Please refer to http://www.epa.gov/oaqps001/urbanair/sipstatus/efficiency.html Web site for the latest information.

How to Get Help for the System: The Regional Office SIP contacts listed in Section I.C of this preamble will be able to assist their respective air agencies with accessing, registering and using the eSIP submission system. The EPA strongly recommends that users work directly with their Regional Office as their primary point of contact; however, the CDX Help Desk is available for technical support-related questions between the hours of 8:00 a.m. and 6:00 p.m. (ET) at 1-888-890-1995 or helpdesk@epacdx.net.

General questions concerning this document should be addressed to the contact listed in the FOR FURTHER INFORMATION CONTACT section of this document.

IV. Environmental Justice Considerations

This action does not raise any environmental justice issues because it makes only minor amendments to the rules regarding how air agencies submit SIPs to the EPA, without affecting the required content of those SIPs or their availability to communities that may wish to participate in the EPA's review of the SIPs.

V. Statutory and Executive Order Reviews

A. Executive Orders 12866: Regulatory Planning and Review and Executive Order 13563: Improving Regulation and Regulatory Review

This action is not a significant regulatory action and was therefore not submitted to the Office of Management and Budget (OMB) for review.

B. Paperwork Reduction Act (PRA)

This action does not impose any new information collection burden under the PRA. OMB has previously approved the information collection activities contained in 40 CFR part 51. The EPA believes this action does not impose an information collection burden because we are not requiring any new information from states. Rather, we are making only minor amendments to the existing SIP submission rules that will enable states to submit and the EPA to process SIP revisions more efficiently.

C. Regulatory Flexibility Act (RFA)

This action is not subject to the RFA. The RFA applies only to rules subject to notice and comment rulemaking requirements under the APA, 5 U.S.C. 553, or any other statute.

D. Unfunded Mandates Reform Act

This action imposes no new enforceable duty on any state, local or tribal governments or the private sector, but rather makes minor amendments to the existing rules that will enable air agencies to submit SIP revisions more efficiently.

E. Executive Order 13132: Federalism

This final rule does not have federalism implications. As noted previously, this action imposes no new enforceable duty on any state, local or tribal governments, but rather makes minor amendments to the existing rules that will enable air agencies to submit and the EPA to process SIP revisions more efficiently.

The EPA believes, however, that this final rule may be of significant interest to states. Consistent with the EPA's policy to promote communications between the EPA and state and local governments, the EPA consulted with representatives of states early in the process of developing the final rule to permit them to have meaningful and timely input into its development. We initiated a pilot during the development of the eSIP submission system that included EPA personnel from various offices and representatives from air agencies. The objectives of the eSIP submission system pilot was to gain insight and ideas regarding the data flow process within the eSIP submission system.

F. Executive Order 13175: Consultation and Coordination With Indian Tribal Governments

This action does not have tribal implications, as specified in Executive Order 13175 (65 FR 67249, November 9, 2000). It does not have substantial direct effects on tribal governments, on the relationship between the federal government and Indian tribes or on the distribution of power and responsibilities between the federal government and Indian tribes, as specified in Executive Order 13175. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution or Use

This action is not subject to Executive Order 13211, because it is not a significant regulatory action under Executive Order 12866.

I. National Technology Transfer and Advancement Act

This rulemaking does not involve technical standards.

J. Executive Order 12898: Federal Actions To Address Environmental Justice in Minority Populations and Low-Income Populations

The EPA believes this action will not have potential disproportionately high and adverse human health or environmental effects on minority, low-income or indigenous populations, as explained in section IV above.

K. Congressional Review Act

This rule is exempt from the Congressional Review Act because it is a rule of agency organization, procedure or practice that does not substantially affect the rights or obligations of non-agency parties. This rule will be effective March 16, 2015.

L. Judicial Review

Section 307(b)(l) of the CAA indicates which federal Courts of Appeal have venue for petitions of review of final agency actions by the EPA under the CAA. This section provides, in part, that petitions for review must be filed in the Court of Appeals for the District of Columbia Circuit (i) when the agency action consists of “nationally applicable regulations promulgated, or final actions taken, by the Administrator,” or (ii) when such action is locally or regionally applicable, if “such action is based on a determination of nationwide scope or effect and if in taking such action the Administrator finds and publishes that such action is based on such a determination.”

This final rule consisting of simplified SIP submission requirements and an option for electronic web-based submission is “nationally applicable” within the meaning of section 307(b)(1). In addition, the rule addresses a common core of knowledge and analysis involved in formulating the decision and a common interpretation of the requirements of 40 CFR 51 Appendix V applied to determining the completeness of SIPs in states across the country and thus is based on a determination of nationwide scope or effect.

This determination is appropriate because, in the 1977 CAA Amendments that revised CAA section 307(b)(l), Congress noted that the Administrator's determination that an action is of “nationwide scope or effect” would be appropriate for any action that has “scope or effect beyond a single judicial circuit.” H.R. Rep. No. 95-294 at 323-324, reprinted in 1977 U.S.C.C.A.N. 1402-03. In these circumstances, section 307(b)(1) and its legislative history authorize the Administrator to find the rule to be of “nationwide scope or effect” and thus to indicate that venue for challenges lies in the D.C. Circuit. Accordingly, the EPA is determining that this is a rule of nationwide scope or effect. Under section 307(b)(1) of the CAA, petitions for judicial review of this action must be filed in the United States Court of Appeals for the District of Columbia Circuit within 60 days from the date this final action is published in the Federal Register. Filing a petition for review by the Administrator of this final action does not affect the finality of the action for the purposes of judicial review nor does it extend the time within which a petition for judicial review must be filed, and shall not postpone the effectiveness of such rule or action.

List of Subjects

40 CFR Part 51

Environmental protection, Approval and promulgation of implementation plans, Administrative practice and procedures, Air pollution control, Intergovernmental relations, Reporting and recordkeeping requirements.

40 CFR Part 52

Environmental protection, Approval and promulgation of implementation plans, Administrative practice and procedures, Air pollution control, Incorporation by reference, Intergovernmental relations, Reporting and recordkeeping requirements.

Date: February 2, 2015.
Janet G. McCabe,
Acting Assistant Administrator.

For the reasons set forth in the preamble, 40 CFR parts 51 and 52 are amended as follows:

PART 51—REQUIREMENTS FOR PREPARATION, ADOPTION, AND SUBMITTAL OF IMPLEMENTATION PLANS

1. The authority citation for part 51 continues to read as follows:

Authority: 23 U.S.C. 101; 42 U.S.C. 7401-7671q.

Subpart F—Procedural Requirements

2. Section 51.103 is revised to read as follows:

§ 51.103 Submission of plans, preliminary review of plans.

(a) The State makes an official plan submission to EPA only when the submission conforms to the requirements of appendix V to this part and the State delivers the submission to EPA through one of the three following methods: An electronic submission through EPA's eSIP submission system; one paper submission to the appropriate Regional Office with an exact duplicate electronic version, preferably in a word searchable format; or three paper submissions. Any State submission under this part, whether through the eSIP submission system or in paper copy form, will serve as the official submission.

(b) Upon request by a State, the Administrator will work with the State to provide preliminary review of a plan or portion thereof submitted in advance of the date such plan is due. Such requests must be made to the appropriate Regional Office, and must indicate changes (such as redline/strikethrough) to the existing approved plan where applicable, and be submitted using a format agreed upon by the State and Regional Office. Requests for preliminary review do not relieve a State of the responsibility of adopting and submitting plans in accordance with prescribed due dates.

(c) In addition to conforming to the requirements of appendix V to this part for complete SIP submissions, the EPA requests that the state consult with the appropriate Regional Office regarding any additional guidance for submitting a plan to EPA.

3. In Appendix V to part 51:

a. Revise paragraphs (a) and (d) in section 2.1.

b. Add section 3.0.

The revisions and additions read as follows:

APPENDIX V TO PART 51—CRITERIA FOR DETERMINING THE COMPLETENESS OF PLAN SUBMISSIONS

* * * * *

2.1 Administrative Materials

(a) A formal signed, stamped, and dated letter of submittal from the Governor or his designee, requesting EPA approval of the plan or revision thereof (hereafter “the plan”). If electing to submit a paper submission with a copy in electronic version, the submittal letter must verify that the electronic copy provided is an exact duplicate of the paper submission.

* * * * *

(d) A copy of the actual regulation, or document submitted for approval and incorporation by reference into the plan, including indication of the changes made (such as redline/strikethrough) to the existing approved plan, where applicable. The submission shall include a copy of the official State regulation/document, signed, stamped, and dated by the appropriate State official indicating that it is fully enforceable by the State. The effective date of any regulation/document contained in the submission shall, whenever possible, be indicated in the regulation/document itself; otherwise the State should include a letter signed, stamped, and dated by the appropriate State official indicating the effective date. If the regulation/document provided by the State for approval and incorporation by reference into the plan is a copy of an existing publication, the State submission should, whenever possible, include a copy of the publication cover page and table of contents.

* * * * *

3.0. GUIDELINES

The EPA requests that the State adhere to the following voluntary guidelines when making plan submissions.

3.1 All Submissions

(a) The State should identify any copyrighted material in its submission, as EPA does not place such material on the web when creating the E-Docket for loading into the Federal Document Management System (FDMS).

(b) The State is advised not to include any material considered Confidential Business Information (CBI) in their SIP submissions. In rare instances where such information is necessary to justify the control requirements and emissions limitations established in the plan, the State should confer with its Regional Offices prior to submission and must clearly identify such material as CBI in the submission itself. EPA does not place such material in any paper or web-based docket. However, where any such material is considered emissions data within the meaning of Section 114 of the CAA, it cannot be withheld as CBI and must be made publicly available.

3.2 Paper Plan Submissions

(a) The EPA requires that the submission option of submitting one paper plan must be accompanied by an electronic duplicate of the entire paper submission, preferably as a word searchable portable document format (PDF), at the same time the paper copy is submitted. The electronic duplicate should be made available through email, from a File Transfer Protocol (FTP) site, from the State Web site, on a Universal Serial Bus (USB) flash drive, on a compact disk, or using another format agreed upon by the State and Regional Office.

(b) If a state prefers the submission option of submitting three paper copies and has no means of making an electronic copy available to EPA, EPA requests that the state confer with its EPA Regional Office regarding additional guidelines for submitting the plan to EPA.

PART 52—APPROVAL AND PROMULGATION OF IMPLEMENTATION PLANS

4. The authority citation for part 52 continues to read as follows:

Authority: 42 U.S.C. 7401, et seq.

Subpart A—General Provisions

5. Section 52.16 is amended by revising paragraph (a) to read as follows:

§ 52.16 Submission to Administrator.

(a) All requests, reports, applications, submissions, and other communications to the Administrator pursuant to this part shall be submitted in duplicate and addressed to the appropriate Regional Office of the Environmental Protection Agency. For any submission pursuant to this part that is also a submission of a plan or plan revision pursuant to 40 CFR part 51, the submission shall conform to the requirements of appendix V to 40 CFR part 51, rather than the requirements of this paragraph.

* * * * *

[FR Doc. 2015-02602 Filed 2-9-15; 8:45 am]

BILLING CODE 6560-50-P